FEDERAL COMMUNICATIONS COMMISSION

Sunshine Act Meeting; Deletion of Agenda Item for October 17, 2012 Open Meeting

October 15, 2012.

The following item has been deleted from the list of Agenda items scheduled for consideration at the Wednesday, October 17, 2012, Open Meeting and previously listed in the Commission's Notice of October 10, 2012.

Item No. | Bureau | Subject
1 | INTERNATIONAL | Title: Reporting Requirements for U.S. Providers of International Telecommunications Services (IB Docket No. 04-112); Amendment of Part 43 of the Commission's Rules Summary: The Commission will consider a Second Report and Order to streamline reporting requirements for international phone traffic, significantly reducing overall filing burdens while ensuring collection of the data needed to protect consumers and competition in international markets.

Federal Communications Commission.
Gloria J. Miles,
Federal Register Liaison, Office of the Secretary, Office of Managing Director.

[FR Doc. 2012-26037 Filed 10-18-12; 4:15 pm]

BILLING CODE 6712-01-P